RAILROAD RETIREMENT BOARD

Sunshine Act Meetings

TIME AND DATE: 10:00 a.m., August 28, 2019.

PLACE: 8th Floor Board Conference Room, 844 North Rush Street, Chicago, Illinois 60611.

STATUS: This meeting will be open to the public.

MATTERS TO BE CONSIDERED:

(1) Update from Wisconsin Central Working Group

(2) Status update on Albany Field Office

(3) Welcome new Director of Operations/Project Management, Terryne Murphy.

CONTACT PERSON FOR MORE INFORMATION: Stephanie Hillyard, Secretary to the Board, Phone No. 312-751-4920.

Dated: August 15, 2019.
Stephanie Hillyard,
Secretary to the Board.

[FR Doc. 2019-17913 Filed 8-15-19; 4:15 pm]

BILLING CODE 7905-01-P